DEPARTMENT OF COMMERCE

National Oceanic and Atmospheric Administration

Proposed Information Collection; Comment Request; Office of National Marine Sanctuaries Visitor Centers Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 1, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Dr. Danielle Schwarzmann 240-533-0706 or danielle.schwarzmann@noaa.gov

SUPPLEMENTARY INFORMATION:

I. Abstract

This request is for a new collection of information. NOAA's Office of National Marine Sanctuaries (ONMS) is conducting research to measure the public's opinions about sanctuary visitor centers, exhibits, and kiosks. Exhibits and kiosks covered under the survey can be permanent or traveling/temporary. The survey will be administered annually both within an ONMS visitor center as well as at partner venues that host an exhibit or kiosk on a national marine sanctuary or marine national monument. The survey will cover visitor centers, exhibits, and kiosks system-wide across all the national marine sanctuaries and marine national monuments managed or co-managed by NOAA's ONMS.

The visitor survey will be conducted to obtain an objective analysis of visitor experiences within a sanctuary visitor center or at a partner venue that includes an exhibit or kiosk with information on a national marine sanctuary or marine national monument. Information will be obtained on visitor satisfaction with the overall exhibits or kiosks, graphics, multi-media products, interactives, along with the overall feelings about the facilities and services offered at the centers/venues. The survey will acquire data on the effectiveness of sanctuary/monument messaging, awareness about and use of sanctuary/monument resources, as well as additional recreational and/or educational opportunities available to the public. Lastly, the survey will include questions about visitor demographics.

The information will aid NOAA's Office of National Marine Sanctuaries budget allocation and prioritization, strategic planning, and management review process to better interpret the sanctuary/monument system and engage with constituents and the larger community on resource protection and conservation topics. Survey results will be used by sanctuary/monument site superintendents to improve visitor services where the survey is administered and will also aide sanctuary/monument headquarters communication and education staff to more effectively communicate key messages. In addition, the survey data will contribute to NOAA and DOC performance reports and year end summaries.

II. Method of Collection

The surveys will be conducted in person or through web applications at kiosks.

III. Data

OMB Control Number: 0648-xxxx.

Form Number: None.

Type of Review: Regular submission (new information collection).

Affected Public: Individuals or households.

Estimated Number of Respondents: 2,000.

Estimated Time per Response: 5 minutes.

Estimated Total Annual Burden Hours: 166.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 28, 2018.
Sarah Brabson,
NOAA PRA Clearance Officer.

[FR Doc. 2018-06605 Filed 3-30-18; 8:45 am]

BILLING CODE 3510-NK-P